DEPARTMENT OF TRANSPORTATION

Federal Aviation Administration

14 CFR Part 39

[Docket No. FAA-2013-0623; Directorate Identifier 2013-NM-109-AD; Amendment 39-17516; AD 2013-14-11]

RIN 2120-AA64

Airworthiness Directives; Bombardier, Inc. Airplanes

AGENCY: Federal Aviation Administration (FAA), Department of Transportation (DOT).

ACTION: Final rule; request for comments.

SUMMARY: We are adopting a new airworthiness directive (AD) for all Bombardier, Inc. Model CL-600-2B19 (Regional Jet Series 100 & 440), CL-600-2C10 (Regional Jet Series 700, 701, & 702), CL-600-2D15 (Regional Jet Series 705), and CL-600-2D24 (Regional Jet Series 900) airplanes. This AD requires revising the airplane flight manual (AFM) by incorporating an emergency procedure for uncommanded yaw motion. This AD was prompted by reports of airplanes experiencing uncommanded rudder movements while in flight. We are issuing this AD to advise the flightcrew of procedures to address a possible failure of the voltage regulator inside the yaw damper actuator that could lead to uncommanded yaw movement and consequent loss of the ability to control the airplane.

DATES: This AD becomes effective August 9, 2013.

The Director of the Federal Register approved the incorporation by reference of certain publications listed in the AD as of August 9, 2013.

We must receive comments on this AD by September 9, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Discussion

Transport Canada Civil Aviation (TCCA), which is the aviation authority for Canada, has issued Canadian Airworthiness Directive CF-2013-13, dated May 28, 2013 (referred to after this as the Mandatory Continuing Airworthiness Information, or “the MCAI”), to correct an unsafe condition for the specified products. The MCAI states:

There have been several reported incidents where Bombardier Regional Jet aeroplanes experienced in flight uncommanded rudder movements. Investigation revealed that a failure of the voltage regulator inside the yaw damper actuator could lead to uncommanded yaw movement. If not corrected, this condition could lead to the loss of the * * * [ability to control the] aeroplane.

This [TCCA] AD mandates the introduction of an emergency procedure to the Aeroplane Flight Manual (AFM) to address the above mentioned unsafe condition.

You may obtain further information by examining the MCAI in the AD docket.

Relevant Service Information

Bombardier Inc., has issued the following emergency procedures for the AFMs:

• For Bombardier, Inc. Model CL-600-2B19 (Regional Jet Series 100 & 440) airplanes: Procedure 1., Automatic Flight Control System (AFCS), of Section 03-06, Emergency Procedures—Automatic Flight Control System, of Chapter 3, Emergency Procedures, in Volume 1 of the Bombardier CRJ Series Regional Jet Model CL-600-2B19 AFM, CSP A-012, Revision 61, dated April 2, 2013.

• For Bombardier, Inc. Model CL-600-2C10 (Regional Jet Series 700, 701, & 702) airplanes: Procedure 1., Automatic Flight Control System (AFCS), of Section 03-06, Emergency Procedures—Automatic Flight Control System, of Chapter 3, Emergency Procedures, in Volume 1 of the Bombardier CRJ Series Regional Jet Model CL-600-2C10 AFM, CSP B-012, Revision 11, dated February 14, 2013.

• For Bombardier, Inc. Model CL-600-2D15 (Regional Jet Series 705) and CL-600-2D24 (Regional Jet Series 900) airplanes: Procedure 1., Automatic Flight Control System (AFCS), of Section 03-06, Emergency Procedures—Automatic Flight Control System, of Chapter 3, Emergency Procedures, in Volume 1 of the Bombardier CRJ Series Regional Jet Model CL-600-2D24 and Model CL-600-2D15 AFM, CSP C-012, Revision 7, dated February 14, 2013.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because of a possible failure of the voltage regulator inside the yaw damper actuator that could lead to uncommanded yaw movement, which could lead to the loss of the ability to control the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0623; Directorate Identifier 2013-NM-109-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 929 airplanes of U.S. registry.

We estimate the following costs to comply with this AD:

Estimated Costs
Action | Labor cost | Parts cost | Cost per product | Cost on U.S. operators
Revision | 1 work-hour × $85 per hour = $85 | $0 | $85 | $78,965

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-14-11 Bombardier, Inc.: Amendment 39-17516. Docket No. FAA-2013-0623; Directorate Identifier 2013-NM-109-AD.

(a) Effective Date

This airworthiness directive (AD) becomes effective August 9, 2013.

(b) Affected ADs

None.

(c) Applicability

This AD applies to all airplanes specified in paragraphs (c)(1) through (c)(4) of this AD, certificated in any category.

(1) Bombardier, Inc. Model CL-600-2B19 (Regional Jet Series 100 & 440) airplanes.

(2) Bombardier, Inc. Model CL-600-2C10 (Regional Jet Series 700, 701, & 702) airplanes.

(3) Bombardier, Inc. Model CL-600-2D15 (Regional Jet Series 705) airplanes.

(4) Bombardier, Inc. Model CL-600-2D24 (Regional Jet Series 900) airplanes.

(d) Subject

Air Transport Association (ATA) of America Code 2720, Rudder Control System.

(e) Reason

This AD was prompted by reports of airplanes experiencing uncommanded rudder movements while in flight. We are issuing this AD to advise the flightcrew of procedures to address a possible failure of the voltage regulator inside the yaw damper actuator that could lead to uncommanded yaw movement and consequent loss of the ability to control the airplane.

(f) Compliance

You are responsible for having the actions required by this AD performed within the compliance times specified, unless the actions have already been done.

(g) Airplane Flight Manual (AFM) Revision

Within 30 days after the effective date of this AD, revise the Emergency Procedures Section and the Limitations Section of the Bombardier AFM to incorporate the “Uncommanded Yaw Motion” procedure specified in paragraphs (g)(1) through (g)(3) of this AD, as applicable.

(1) For Bombardier, Inc. Model CL-600-2B19 (Regional Jet Series 100 & 440) airplanes: Procedure 1., Automatic Flight Control System (AFCS), of Section 03-06, Emergency Procedures—Automatic Flight Control System, of Chapter 3, Emergency Procedures, in Volume 1 of the Bombardier CRJ Series Regional Jet Model CL-600-2B19 AFM CSP A-012, Revision 61, dated April 2, 2013.

(2) For Bombardier, Inc. Model CL-600-2C10 (Regional Jet Series 700, 701, & 702) airplanes: Procedure 1., Automatic Flight Control System (AFCS), of Section 03-06, Emergency Procedures—Automatic Flight Control System, of Chapter 3, Emergency Procedures, in Volume 1 of the Bombardier CRJ Series Regional Jet Model CL-600-2C10 AFM, CSP B-012, Revision 11, dated February 14, 2013.

(3) For Bombardier, Inc. Model CL-600-2D15 (Regional Jet Series 705) and CL-600-2D24 (Regional Jet Series 900) airplanes: Procedure 1., Automatic Flight Control System (AFCS), of Section 03-06, Emergency Procedures—Automatic Flight Control System, of Chapter 3, Emergency Procedures, in Volume 1 of the Bombardier CRJ Series Regional Jet Model CL-600-2D24 and Model CL-600-2D15 AFM, CSP C-012, Revision 7, dated February 14, 2013.

(h) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to Mandatory Continuing Airworthiness Information Canadian Airworthiness Directive CF-2013-13, dated May 28, 2013, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Procedure 1., Automatic Flight Control System (AFCS), of Section 03-06, Emergency Procedures—Automatic Flight Control System, of Chapter 3, Emergency Procedures, in Volume 1 of the Bombardier CRJ Series Regional Jet Model CL-600-2B19 Airplane Flight Manual CSP A-012, Revision 61, dated April 2, 2013.

(ii) Procedure 1., Automatic Flight Control System (AFCS), of Section 03-06, Emergency Procedures—Automatic Flight Control System, of Chapter 3, Emergency Procedures, in Volume 1 of the Bombardier CRJ Series Regional Jet Model CL-600-2C10 Airplane Flight Manual CSP B-012, Revision 11, dated February 14, 2013.

(iii) Procedure 1., Automatic Flight Control System (AFCS), of Section 03-06, Emergency Procedures—Automatic Flight Control System, of Chapter 3, Emergency Procedures, in Volume 1 of the Bombardier CRJ Series Regional Jet Model CL-600-2D24 and Model CL-600-2D15 Airplane Flight Manual CSP C-012, Revision 7, dated February 14, 2013.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 11, 2013.
Jeffrey E. Duven,
Acting Manager, Transport Airplane Directorate, Aircraft Certification Service.

[FR Doc. 2013-17294 Filed 7-24-13; 8:45 am]

BILLING CODE 4910-13-P